INTERNATIONAL TRADE COMMISSION

[Investigation No. 337-TA-1002]

Certain Carbon and Alloy Steel Products; Commission Determination To Reset the Time for the Beginning of the April 20, 2017, Oral Argument

AGENCY: U.S. International Trade Commission.

ACTION: Notice.

SUMMARY: Notice is hereby given that the U.S. International Trade Commission has determined to reset the time for the beginning of the oral argument, see 82 FR 16417-8 (Apr. 4, 2017), to 10 a.m. on April 20, 2017.

FOR FURTHER INFORMATION CONTACT: Houda Morad, Office of the General Counsel, U.S. International Trade Commission, 500 E Street SW., Washington, DC 20436, telephone (202) 708-4716. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1002 on June 2, 2016, based on a complaint filed by Complainant United States Steel Corporation of Pittsburgh, Pennsylvania (“U.S. Steel”), alleging a violation of Section 337 of the Tariff Act of 1930, as amended, 19 U.S.C. 1337. See 81 FR 35381-2 (June 2, 2016). The complaint alleges violations of Section 337 based upon the importation, the sale for importation, or the sale after importation into the United States of certain carbon and alloy steel products by reason of: (1) A conspiracy to fix prices and control output and export volumes, the threat or effect of which is to restrain or monopolize trade and commerce in the United States; (2) misappropriation and use of trade secrets, the threat or effect of which is to destroy or substantially injure an industry in the United States; and (3) false designation of origin or manufacturer, the threat or effect of which is to destroy or substantially injure an industry in the United States. Id. The notice of investigation identified forty (40) respondents that are Chinese steel manufacturers or distributors, as well as some of their Hong Kong and United States affiliates. Id. In addition to the private parties, the Commission assigned an Investigative Attorney from the Commission's Office of Unfair Import Investigations (OUII), who functions as an independent litigant or party in the investigation. Id.

On August 26, 2016, Respondents filed a motion to terminate U.S. Steel's antitrust claim under 19 CFR 210.21. On November 14, 2016, the administrative law judge (“ALJ”) issued an initial determination (“ID”) (Order No. 38), granting Respondents' motion to terminate Complainant's antitrust claim under 19 CFR 210.21 and, in the alternative, under 19 CFR 210.18.

On December 19, 2016, the Commission issued a Notice determining to review the ID (Order No. 38). See 81 FR 94416-7 (Dec. 23, 2016). In the December 19, 2016, Notice, the Commission requested written submissions from “[t]he parties to the investigation, including the Office of Unfair Import Investigations, and interested government agencies,” and set a date of March 14, 2017, for possible oral argument. Id.

On March 3, 2017, the Commission issued another notice seeking further written submissions from the public and rescheduling the date and time for the oral argument to April 20, 2017 at 9:30 a.m. See 82 FR 13133-4 (Mar. 9, 2017).

On March 30, 2017, the Commission issued another notice setting the procedure for the oral argument. See 82 FR 16417-8 (Apr. 4, 2017).

The Commission has determined to reset the time for the beginning of the oral argument to 10 a.m. on April 20, 2017.

The authority for the Commission's determination is contained in section 337 of the Tariff Act of 1930, as amended (19 U.S.C. 1337), and in part 210 of the Commission's Rules of Practice and Procedure (19 CFR part 210).

By order of the Commission.
Issued: April 12, 2017.
Lisa R. Barton,
Secretary to the Commission.

[FR Doc. 2017-07758 Filed 4-18-17; 8:45 am]

BILLING CODE 7020-02-P